DEPARTMENT OF ENERGY

10 CFR Part 430

[Docket No. EERE-2009-BT-TP-0013]

RIN 1904-AB95

Energy Conservation Program for Consumer Products: Test Procedures for Residential Water Heaters, Direct Heating Equipment, and Pool Heaters (Standby Mode and Off Mode)

AGENCY: Office of Energy Efficiency and Renewable Energy, Department of Energy.

ACTION: Supplemental notice of proposed rulemaking.

SUMMARY: On August 30, 2010, the U.S. Department of Energy (DOE) published a notice of proposed rulemaking (NOPR) in which DOE proposed to amend, where appropriate, its test procedures for residential water heaters, direct heating equipment, and pool heaters to include provisions for measuring standby mode and off mode energy consumption, as required by the Energy Independence and Security Act of 2007 (EISA 2007). (DOE notes that the test procedure and metric for residential water heaters currently address and incorporate standby mode and off mode energy consumption, so DOE has tentatively concluded that no related amendments are required for those products.). These proposed test procedure amendments are primarily based on provisions of the International Electrotechnical Commission (IEC) Standard 62301, “Household electrical appliances—Measurement of standby power,” that DOE would incorporate by reference into its regulations. The NOPR relied upon IEC Standard 62301 (First Edition 2005-06), which was the most current version at the time. However, the IEC recently adopted a new version of its standard which includes a number of methodological changes designed to increase accuracy while reducing testing burden. DOE's review suggests that this document represents an improvement over the prior version. Accordingly, today's supplemental notice of proposed rulemaking (SNOPR) proposes to incorporate the latest edition of that standard—IEC Standard 62301 (Second Edition 2011).

DATES: DOE will accept comments, data, and information regarding this SNOPR no later than October 13, 2011. For details, see section V, “Public Participation,” of this SNOPR.

ADDRESSES: Any comments submitted must identify the SNOPR on Test Procedures for Residential Water Heaters, Direct Heating Equipment, and Pool Heaters, and provide the docket number EERE-2009-BT-TP-0013 and/or regulatory information number (RIN) 1904-AB95. Comments may be submitted using any of the following methods:

1. Federal eRulemaking Portal: www.regulations.gov. Follow the instructions for submitting comments.

2. E-mail: EISA-Heat-Equip-2010-TP-0013@ee.doe.gov Include docket number EERE-2009-BT-TP-0013 or RIN 1904-AB95 in the subject line of the message.

3. Mail: Ms. Brenda Edwards, U.S. Department of Energy, Building Technologies Program, Mailstop EE-2J, 1000 Independence Avenue, SW., Washington, DC 20585-0121. If possible, please submit all items on a compact disc (CD), in which case it is not necessary to include printed copies. Otherwise, please submit one signed paper original.

4. Hand Delivery/Courier: Ms. Brenda Edwards, U.S. Department of Energy, Building Technologies Program, 950 L'Enfant Plaza, SW., Suite 600, Washington, DC 20024. Telephone: (202) 586-2945. If possible, please submit all items on a CD, in which case it is not necessary to include printed copies. Otherwise, please submit one signed paper original.

No telefacsimilies (faxes) will be accepted. For detailed instructions on submitting comments and additional information on the rulemaking process, see section V, “Public Participation,” of this document.

Docket: The docket is available for review at www.regulations.gov, including Federal Register notices, public meeting attendee lists and transcripts, comments, and other supporting documents/materials. All documents in the docket are listed in the www.regulations.gov index. However, not all documents listed in the index may be publicly available, such as information that is exempt from public disclosure.

A link to the docket web page can be found at: http://www.regulations.gov/#!docketDetail;dct=FR%252BPR%252BN%252BO%252BSR;rpp=10;po=0;D=EERE-2009-BT-TP-0013. The www.regulations.gov web page contains simple instructions on how to access all documents, including public comments, in the docket. See section V, “Public Participation,” for further information on how to submit comments through www.regulations.gov.

For further information on how to submit a comment or review other public comments and the docket, contact Ms. Brenda Edwards at (202) 586-2945 or by email: Brenda.Edwards@ee.doe.gov.

FOR FURTHER INFORMATION CONTACT: Mr. Mohammed Khan, U.S. Department of Energy, Office of Energy Efficiency and Renewable Energy, Building Technologies Program, EE-2J, 1000 Independence Avenue, SW., Washington, DC 20585-0121. Telephone: (202) 586-7892. E-mail: Mohammed.Khan@ee.doe.gov.

Mr. Eric Stas, U.S. Department of Energy, Office of the General Counsel, GC-71, 1000 Independence Avenue, SW., Washington, DC, 20585-0121. Telephone: (202) 586-9507. E-mail: Eric.Stas@hq.doe.gov.

For information on how to submit or review public comments, contact Ms. Brenda Edwards, U.S. Department of Energy, Office of Energy Efficiency and Renewable Energy, Building Technologies Program, EE-2J, 1000 Independence Avenue, SW., Washington, DC 20585-0121. Telephone: (202) 586-2945. E-mail: Brenda.Edwards@ee.doe.gov.

SUPPLEMENTARY INFORMATION:

Table of Contents

I. Background and Authority

II. Summary of the Supplemental Proposed Rule

III. Discussion

A. Use of IEC Standard 62301 (Second Edition), “Household electrical appliances-Measurement of standby power”

B. Rounding Guidance

C. Sampling Plans for Standby Mode and Off Mode

D. Effective Date and Compliance Date

E. Compliance with Other EPCA Requirements

IV. Procedural Issues and Regulatory Review

V. Public Participation

VI. Issues on Which DOE Seeks Comment

VII. Approval of the Office of the Secretary

I. Background and Authority

Title III, Part B ¹ of the Energy Policy and Conservation Act of 1975 (EPCA or the Act), Public Law 94-163 (42 U.S.C. 6291-6309, as codified) sets forth a variety of provisions designed to improve energy efficiency and established the Energy Conservation Program for Consumer Products Other Than Automobiles, a program covering most major household appliances, including residential water heaters, direct heating equipment, and pool heaters (all of which are referenced below as “covered products”).² (42 U.S.C. 6292(a)(4), (9), and (11); 42 U.S.C. 6295(e))

¹ For editorial reasons, upon codification in the U.S. Code, Part B was redesignated Part A.

² All references to EPCA in this rulemaking refer to the statute as amended through the Energy Independence and Security Act of 2007, Public Law 110-140.

Under the Act, this program consists essentially of three parts: (1) Testing; (2) labeling; and (3) establishing Federal energy conservation standards. The testing requirements consist of test procedures that manufacturers of covered products must use as the basis for certifying to DOE that their products comply with applicable energy conservation standards adopted pursuant to EPCA and for representing the efficiency of those products. (42 U.S.C. 6293(c); 42 U.S.C. 6295(s)) Similarly, DOE must use these test procedures in any enforcement action to determine whether covered products comply with these energy conservation standards. (42 U.S.C. 6295(s)) Under 42 U.S.C. 6293, EPCA sets forth criteria and procedures for DOE's adoption and amendment of such test procedures. Specifically, EPCA provides that “[a]ny test procedures prescribed or amended under this section shall be reasonably designed to produce test results which measure energy efficiency, energy use * * * or estimated annual operating cost of a covered product during a representative average use cycle or period of use, as determined by the Secretary [of Energy], and shall not be unduly burdensome to conduct.” (42 U.S.C. 6293(b)(3)) In addition, if DOE determines that a test procedure amendment is warranted, it must publish proposed test procedures and offer the public an opportunity to present oral and written comments on them. (42 U.S.C. 6293(b)(2)) Finally, in any rulemaking to amend a test procedure, DOE must determine “to what extent, if any, the proposed test procedure would alter the measured energy efficiency * * * of any covered product as determined under the existing test procedure.” (42 U.S.C. 6293(e)(1)) If DOE determines that the amended test procedure would alter the measured efficiency of a covered product, DOE must amend the applicable energy conservation standard accordingly. (42 U.S.C. 6293(e)(2))

On December 19, 2007, the Energy Independence and Security Act of 2007 (EISA 2007), Public Law 110-140, was enacted. The EISA 2007 amendments to EPCA, in relevant part, require DOE to amend the test procedures for all covered products to include measures of standby mode and off mode energy consumption. Specifically, section 310 of EISA 2007 provides definitions of “standby mode” and “off mode” (42 U.S.C. 6295(gg)(1)(A)) and permits DOE to amend these definitions in the context of a given product (42 U.S.C. 6295(gg)(1)(B)). The statute requires integration of such energy consumption into the overall energy efficiency, energy consumption, or other energy descriptor for each covered product, unless the Secretary determines that: (1) The current test procedures for a covered product already fully account for and incorporate the standby mode and off mode energy consumption of the covered product; or (2) such an integrated test procedure is technically infeasible for a particular covered product, in which case the Secretary shall prescribe a separate standby mode and off mode energy use test procedure for the covered product, if technically feasible. (42 U.S.C. 6295(gg)(2)(A))

Under the statutory provisions adopted by EISA 2007, any such amendment must consider the most current versions of IEC Standard 62301, Household electrical appliances—Measurement of standby power, and IEC Standard 62087, Methods of measurement for the power consumption of audio, video, and related equipment.³ Id. At the time of the enactment of EISA 2007, the most current versions of these standards were IEC Standard 62301 (First Edition 2005-06) and IEC Standard 62087 (Second Edition 2008-09).

³ EISA 2007 directs DOE to also consider IEC Standard 62087 when amending its test procedures to include standby mode and off mode energy consumption. See 42 U.S.C. 6295(gg)(2)(A). However, IEC Standard 62087 addresses the methods of measuring the power consumption of audio, video, and related equipment. Accordingly, the narrow scope of this particular IEC standard reduces its relevance to today's proposal.

DOE's current test procedures for residential water heaters, direct heating equipment, and pool heaters are found at 10 CFR part 430, subpart B in Appendix E (water heaters), Appendices G and O (direct heating equipment), and Appendix P (pool heaters). These procedures establish a means for determining measures of energy consumption, including, where appropriate, energy efficiency. On August 30, 2010, DOE published its NOPR (hereafter referred to as the August 2010 NOPR) to consider amendments to the test procedures for residential water heaters, direct heating equipment, and pool heaters to account for the standby mode and off mode energy consumption of these products, as required by EISA 2007. 75 FR 52892 (Aug. 30, 2010). For a more detailed procedural history of the test procedure rulemaking to address standby mode and off mode energy consumption of residential water heaters, direct heating equipment, and pool heaters, please consult the August 2010 NOPR. Id. at 52893-95. This SNOPR builds upon and further modifies DOE's proposal, as presented in the August 2010 NOPR.

II. Summary of the Supplemental Proposed Rule

As discussed above, EISA 2007 amended EPCA to require that DOE test procedures for covered products include provisions for measuring standby mode and off mode energy consumption. (42 U.S.C. 6295(gg)(2)(A)) EISA 2007 requires consideration of the most current version of IEC Standard 62301 to support the added measurement provisions. Id. In the August 2010 NOPR, DOE proposed to amend its test procedures to prescribe the use of IEC Standard 62301, “Household electrical appliances—Measurement of standby power,” Publication 62301 First Edition 2005-06,” which was the most current version of this standard at the time DOE proposed its incorporation into the DOE regulations. Since that time, a second edition of the standard has been developed and finalized. In the abstract of the January 27, 2011 final publication, the IEC reports that the second edition would provide practical improvement and possible reduction in testing burden, and, as discussed in further detail below, commenters on the August 2010 NOPR expressed similar views. DOE has reviewed IEC Standard 62301 (Second Edition) and agrees that the second edition does provide for improvement in terms of measurement accuracy and possible reduced testing burden. Accordingly, in today's NOPR, DOE is proposing to incorporate into DOE's test procedure regulations the second edition of the IEC 62301 standard in its entirety, and to call out the appropriate provisions of that standard in DOE's test procedure regulations for residential direct heating equipment and pool heaters. (Because DOE continues to believe that the current test procedure for residential water heaters fully addresses standby mode and off mode energy consumption, this SNOPR proposes no amendments to the test procedure for these products.)

III. Discussion

A. Use of IEC Standard 62301 (Second Edition), “Household Electrical Appliances—Measurement of Standby Power”

As noted above, EPCA, as amended by EISA 2007, requires that DOE test procedures be amended to include standby mode and off mode energy consumption, taking into consideration the most current versions of Standards 62301 and 62087 of the International Electrotechnical Commission. (42 U.S.C. 6295(gg)(2)(A)) The August 2010 NOPR would reference IEC Standard 62301 (First Edition) to obtain the standby mode and off mode measured wattage for residential direct heating equipment and pool heaters. The amended test procedures would use these measured wattages in calculations to accomplish the incorporation of standby mode and off mode energy consumption into the test procedures. DOE reviewed IEC Standard 62301 (First Edition) and tentatively concluded in its August 2010 NOPR (75 FR 52892 (August 30, 2010)) that it was generally applicable to residential direct heating equipment and pool heaters, although some clarification was needed. Specifically, because there is a possible conflict with voltage and ambient temperature provisions of the existing procedures, the August 2010 NOPR clarified where the IEC provisions apply and where the existing test procedure provisions apply. With this clarification in place, the August 2010 NOPR proposed to reference IEC Standard 62301 (First Edition) for obtaining the standby mode and off mode wattage measurements for residential direct heating equipment and pool heaters.

In written comments on the August 2010 NOPR, the Air-Conditioning, Heating, and Refrigeration Institute (AHRI) and the Association of Home Appliance Manufacturers (AHAM) asked that DOE consider referencing a revised version of the industry standard—IEC Standard 62301 (Second Edition). Both commenters cited technical improvements in the latter version that they expect would enhance repeatability and reproducibility of test results. (AHRI, No. 13 at p. 1, AHAM, No. 15 at p. 2) AHAM additionally commented that the Final Draft International Standard (FDIS) version of IEC Standard 62301 would be preferable to the Committee Draft for Vote (CDV) version of the standard. (AHAM, No. 15 at p. 2) The CDV of IEC Standard 62301 was released on August 28, 2009. On this matter, DOE notes that because IEC has now formally adopted IEC Standard 62301 (Second Edition), DOE is no longer considering earlier draft versions. In any event, the adopted version is consistent with the preference suggested by AHAM.

As noted above, since the time of the August 2010 NOPR, the IEC Standard 62301 technical committee has revised its standard. Specifically, a second edition of IEC Standard 62301 has been issued by IEC with a final publication date of January 27, 2011. This standard can be purchased at: http://www.iec.ch/index.htm. The IEC reports in its abstract to the January 27, 2011 final publication that the second edition provides technical improvement from the previous edition as follows:

• Greater detail in set-up procedures and introduction of stability requirements for all measurement methods to ensure that results are as representative as possible;

• Refinement of measurement uncertainty requirements for power measuring instruments, especially for more difficult loads with high crest factor and/or low power factor;

• Updated guidance on product configuration, instrumentation, and calculation of measurement uncertainty.

DOE has conducted a review of the second edition of IEC Standard 62301, which is consistent with the requirement in EISA 2007 for DOE to consider the most current version of that standard. (42 U.S.C. 6295(gg)(2)(A)) As a result of its investigation, DOE agrees with the commenters mentioned above (AHRI, No. 13 at p. 1, AHAM, No. 15 at p.2), that some improvement is possible with the incorporation of the second edition as it applies to the products that are the subject of this rulemaking. Specifically, IEC Standard 62301 (Second Edition) revises the standard's power measurement accuracy provisions, based on technical submissions that showed the inability to achieve the accuracy levels required by the first edition for certain operating regimes with the use of typical instrumentation. A more comprehensive specification of required accuracy is provided in IEC Standard 62301 (Second Edition) that depends upon the characteristics of the power being measured. The other major change in IEC Standard 62301 (Second Edition) that relates to the measurement of standby power consumption in covered products involves the specification of the stability criteria required to measure that power. IEC Standard 62301 (Second Edition) contains more detailed techniques to evaluate the stability of the power consumption and to measure the power consumption for loads with different stability characteristics. The manufacturer is given a choice of measurement procedures, including less burdensome methods such as direct meter reading methods. The less burdensome methods are allowed if certain clearly described conditions are met. DOE believes that the changes incorporated in IEC Standard 62301 (Second Edition) would allow for use of less burdensome methods when appropriate and would ensure accurate measures of standby energy consumption over a range of operating conditions that may be present in residential heating products.

Accordingly, for the reasons discussed above, DOE is proposing to incorporate IEC Standard 62301 (Second Edition) into DOE's test procedure regulations for residential direct heating equipment and pool heaters. To this end, this supplemental notice is proposing to add a new reference in 10 CFR 430.3 for IEC Standard 62301 (Second Edition) alongside the existing reference to IEC Standard 62301 (First Edition). (Although DOE has tentatively determined that the provisions of IEC Standard 62301 (Second Edition) should be made applicable to residential direct heating equipment and pool heaters, the Department is currently maintaining the existing reference to IEC Standard 62301 (First Edition), because other products continue to reference that standard.) In addition, DOE is proposing a number of editorial changes in the various appendices (G, O, P) which are necessary for residential direct heating equipment and pool heaters to allow for the correct referencing. For example, the definition sections of the individual appendices need to define IEC Standard 62301 as the second edition instead of the first edition. Also, there are some section numbering differences in the second edition which impact the text of the measurement provisions of DOE's various test procedures. Finally, as an editorial improvement, DOE is unifying the standby mode and off mode nomenclature used in the various test procedures. Specifically, the uniform nomenclature would use the expressions: PW,SB and PW,OFF in all test procedures. All of these proposed changes are reflected in the regulatory text which can be found at the end of this SNOPR.

B. Rounding Guidance

IEC Standard 62301 (Second Edition) includes specific guidance on rounding for the various wattage measurements. For clarification purposes, DOE is proposing to include the IEC rounding guidance in this supplemental proposal. Specifically, it is proposed that the following sentence be added to the measurement provisions of the proposed regulatory text where appropriate: “The recorded standby power (PW,SB) (or off mode power PW,OFF, where appropriate) shall be rounded to the second decimal place, and for loads greater than or equal to 10W, at least three significant figures shall be reported.” DOE requests comments as to the adequacy and appropriateness of this additional clarification.

C. Sampling Plans for Standby Mode and Off Mode

Currently, sampling plans for the products that are the subject of this proposal are located in 10 CFR 429.17 for water heaters, 10 CFR 429.22 for direct heating equipment, and 10 CFR 429.24 for pool heaters. These provisions specify the number of units of each basic model that a manufacturer must test to calculate the certified ratings for compliance and representation purposes. The sampling procedures provide that “ * * * a sample of sufficient size shall be randomly selected and tested to ensure [compliance].” Id. For these products, a minimum of two units must be tested in order for a manufacturer to calculate the certified rating for each basic model, make representations about the basic model's energy consumption or efficiency, and certify compliance to the Department. This minimum is implicit in the requirement to calculate a mean—an average—which requires at least two values, and is consistent with the general rule articulated under 10 CFR 429.11(b). Under no circumstances is a sample size of one (1) authorized. Manufacturers may need to test more than two samples depending on the variability of their sample.

Consequently, DOE is proposing here that the existing DOE sampling plans for residential water heaters, direct heating equipment, and pool heaters be applied to the measurement of standby mode and off mode energy consumption. Specifically, the proposed wattage measurements (i.e., PW,SB and PW,OFF), as well as any other measure of energy consumption based on these values, would be subject to those sampling plan provisions contained in 10 CFR 429.22 for direct heating equipment and 10 CFR 429.24 for pool heaters. (Note: No added measures of energy consumption are proposed for residential water heaters.) Clarifying further, the wattage measurements would be subject to the sampling provisions applicable to measures of energy consumption.⁴ DOE invites comment on the application of the existing DOE sampling plans to standby mode and off mode measures of energy consumption, in particular the newly proposed metrics PW,SB and PW,OFF.

⁴ In general, DOE presents sampling calculations for both energy consumption and energy efficiency standards throughout 10 CFR part 429. Consumers prefer lower values for measures of energy consumption (i.e., thereby ensuring that the appliance in question uses less energy, which would translate into lower energy bills). Conversely, consumers generally prefer higher values for measures of energy efficiency (i.e., thereby ensuring that the appliance in question performs its operation using less energy over a given period of time, which again would translate into lower energy bills).

D. Effective Date and Compliance Date

The effective date for these amendments would be 30 days after publication of the test procedure final rule in the Federal Register. At that time, representations may be made using the new metrics PW,SB and PW,OFF and any other measure of energy consumption which depends on PW,SB and PW,OFF, which were adopted pursuant to these amendments. The compliance date for any representations relating to standby mode and off mode is 180 days from date of publication of the test procedure final rule in the Federal Register; on or after that date, any such representations must be based upon results generated under these test procedures and sampling plans.

However, DOE would clarify that use of these proposed test procedure amendments related to standby mode and off mode energy consumption would not be required for purposes of energy conservation standards compliance, until the compliance date of the next standards final rule that addresses standby mode and off mode.

E. Compliance With Other EPCA Requirements

EPCA requires that “[a]ny test procedures prescribed or amended under this section shall be reasonably designed to produce test results which measure energy efficiency, energy use * * * or estimated annual operating cost of a covered product during a representative average use cycle or period of use * * * and shall not be unduly burdensome to conduct.” (42 U.S.C. 6293(b)(3))

Today's supplemental proposed amendments to the DOE test procedures for direct heating equipment and pool heaters would incorporate the most current version of IEC Standard 62301 in lieu of the previous version. DOE believes these new provisions would produce valid results, while reducing testing burden. Accordingly, this proposal would meet the requirements of 42 U.S.C. 6293(b)(3).

In addition, DOE has determined that these amendments would not alter the measured efficiency used by the current energy conservation standard for these products. (42 U.S.C. 6293(e)(1)) Consistent with its mandate pursuant to EISA 2007, DOE is clarifying in this SNOPR that use of these proposed test procedure amendments related to standby mode and off mode energy consumption would not be required for purposes of energy conservation standards compliance, until the compliance date of the next standards final rule that addresses standby mode and off mode. That standards rulemaking will factor in these new test procedure amendments when setting an appropriate standard level. Accordingly, no modifications to the applicable energy conservation standards are required at this time. (42 U.S.C. 6293(e)(2))

IV. Procedural Issues and Regulatory Review

DOE has concluded that the determinations made pursuant to the various procedural requirements applicable to the August 30, 2010 NOPR remain unchanged for this SNOPR. These determinations are set forth in the August 30, 2010 NOPR. 75 FR 52892, 52901-03. If anything, the additional changes proposed in this SNOPR (e.g., different options for stability criteria) would be expected to further reduce testing burden beyond what is specified in the August 30, 2010 NOPR.

V. Public Participation

DOE will accept comments, data, and information regarding the SNOPR no later than the date provided at the beginning of this notice. Comments, data, and information submitted to DOE's e-mail address for this rulemaking should be provided in WordPerfect, Microsoft Word, PDF, or text (ASCII) file format. Stakeholders should avoid the use of special characters or any form of encryption, and wherever possible comments should include the electronic signature of the author. Comments, data, and information submitted to DOE via mail or hand delivery/courier should include one signed paper original. No telefacsimiles (faxes) will be accepted.

Pursuant to 10 CFR 1004.11, any person submitting information that he or she believes to be confidential and exempt by law from public disclosure should submit two copies: One copy of the document that includes all of the information believed to be confidential, and one copy of the document with that information deleted. DOE will determine the confidential status of the information and treat it accordingly.

Factors of interest to DOE when evaluating requests to treat submitted information as confidential include the following: (1) A description of the items; (2) whether and why such items are customarily treated as confidential within the industry; (3) whether the information is generally known by or available from other sources; (4) whether the information was previously made available to others without obligation concerning its confidentiality; (5) an explanation of the competitive injury to the submitting person that would result from public disclosure; (6) when such information might lose its confidential character due to the passage of time; and (7) why disclosure of the information would be contrary to the public interest.

VI. Issues on Which DOE Seeks Comment

Although comments are welcome on all aspects of this rulemaking, DOE is particularly interested in receiving comments and views of interested parties on the following issues:

1. Appropriateness of measurement instrument uncertainty requirements of IEC Standard 62301 (Second Edition). DOE invites comment on the appropriateness of the measurement instrument uncertainty requirements specified in Section 4.4 of IEC Standard 62301 (Second Edition) to measure standby mode and off mode power consumption for direct heating equipment and pool heaters.

2. Adequacy of the measurement approach described in IEC Standard 62301 (Second Edition). DOE invites comments on the adequacy of the measurement provisions described in Section 5 of IEC Standard 62301 (Second Edition) to measure standby mode and off mode power consumption for direct heating equipment and pool heaters.

3. Adequacy of clarification statements. DOE invites comments on the adequacy of incorporating into DOE regulations the following specific provisions from IEC Standard 62301 (Second Edition): Section 4.4 and Section 5 of IEC 62301, along with the clarification statements in the DOE test procedures

4. Adequacy of rounding guidance. DOE invites comment on the incorporation of the IEC Standard 62301 (Second Edition) rounding guidance into the DOE test procedures' proposed measurements of PW,SB and PW,OFF.

5. Adequacy of existing sampling plans. DOE invites comment on the application of the existing DOE sampling plans to standby mode and off mode measures of energy consumption, in particular the newly proposed metrics PW,SB and PW,OFF.

VII. Approval of the Office of the Secretary

The Secretary of Energy has approved publication of this supplemental notice of proposed rulemaking.

List of Subjects in 10 CFR Part 430

Administrative practice and procedure, Confidential business information, Energy conservation, Household appliances, Imports, Incorporation by reference, Intergovernmental relations, Small businesses.

Issued in Washington, DC, on August 30, 2011.
Kathleen B. Hogan,
Deputy Assistant Secretary for Energy Efficiency, Office of Technology Development, Energy Efficiency and Renewable Energy.

For the reasons stated in the preamble, DOE proposes to amend part 430 of Chapter II, Subchapter D of Title 10 of the Code of Federal Regulations, to read as set forth below:

PART 430—ENERGY CONSERVATION PROGRAM FOR CONSUMER PRODUCTS

1. The authority citation for part 430 continues to read as follows:

Authority: 42 U.S.C. 6291-6309; 28 U.S.C. 2461 note.

2. Section 430.3 is amended by:

a. Revising paragraph (c)(13) to read as follows;

b. Adding a new paragraph (1)(2) to read as follows:

§ 430.3 Materials incorporated by reference.

* * * * *

(c) * * *

* * * * *

(13) ANSI Z21.56—2006 (“ANSI Z21.56”), Standard for Gas-Fired Pool Heaters, approved December 13, 2005, IBR approved for Appendix P to Subpart B.

* * * * *

(1) * * *

* * * * *

(2) International Electrotechnical Commission (IEC) Standard 62301 (“IEC 62301”), Household electrical appliances—Measurement of standby power (second edition, February 2011), IBR approved for Appendix G, O, and P to Subpart B.

* * * * *

§ 430.23 [Amended]

3. Section 430.23 is amended by:

a. Removing the words “section 4.2 of appendix P” in paragraph (p)(1)(i) and adding in their place “section 5.2 of appendix P”, and

b. Removing the words “section 4.3 of appendix P” in paragraph (p)(1)(ii) and adding in their place “section 5.3 of appendix P”.

* * * * *

4. Appendix G to Subpart B of Part 430 is amended in section 2 by adding new sections 2.3, 2.3.1, 2.4, and 2.4.1 to read as follows:

* * * * *

Appendix G to Subpart B of Part 430—Uniform Test Method for Measuring the Energy Consumption of Unvented Home Heating Equipment

* * * * *

2. Testing and measurements.

* * * * *

2.3 Pilot light measurement. Except as provided in section 2.3.1, measure the energy input rate to the pilot light (Qp), with an error no greater than 3 percent, for unvented heaters so equipped.

2.3.1 The measurement of Qp is not required for unvented heaters where the pilot light is designed to be turned off by the user when the heater is not in use (i.e., for units where turning the control to the OFF position will shut off the gas supply to the burner(s) and the pilot light). This provision applies only if an instruction to turn off the unit is provided on the heater near the gas control valve (e.g., by label) by the manufacturer.

2.4 Electrical standby mode power measurement. Except as provided in section 2.4.1, for all electric heaters and unvented heaters with electrical auxiliaries, measure the standby power (PW,SB) in accordance with the procedures in the International Electrotechnical Commission (IEC) Standard 62301, “Household electrical appliances—Measurement of standby power,” Publication 62301 second edition, February 2011 (incorporated by reference; see § 430.3), with all electrical auxiliaries not activated. Voltage shall be as specified in section 1.4.1 Electrical supply of this appendix. The recorded standby power (PW,SB) shall be rounded to the second decimal place, and for loads greater than or equal to 10W, at least three significant figures shall be reported.

2.4.1 The measurement of PW,SB is not required for heaters designed to be turned off by the user when the heater is not in use (i.e., for units where turning the control to the OFF position will shut off the electrical supply to the heater). This provision applies only if an instruction to turn off the unit is provided on the heater (e.g., by label) by the manufacturer.

* * * * *

5. Appendix O to Subpart B of Part 430 is amended by:

a. Adding a Note after the heading;

b. Redesignating sections 1.1 through 1.32 as follows:

Old sections | New sections
1.1 to 1.14 | 1.2 to 1.15
1.15 to 1.19 | 1.17 to 1.21
1.20 and 1.21 | 1.23 and 1.24
1.22 to 1.25 | 1.26 to 1.29
1.26 to 1.32 | 1.31 to 1.37

c. Adding new sections 1.1, 1.16, 1.22, 1.25 and 1.30;

d. Adding new sections 3.7, 3.7.1, and 3.7.2; and

e. Revising sections 4.6.3 and 4.6.3.1, and adding a new section 4.7.

The additions and revisions read as follows:

Appendix O to Subpart B of Part 430—Uniform Test Method for Measuring the Energy Consumption of Vented Home Heating Equipment

Note: The procedures and calculations that refer to standby mode and off mode energy consumption, (i.e., sections 3.7 and 4.7 of this appendix O) need not be performed to determine compliance with energy conservation standards for vented heaters at this time. However, any representation related to standby mode and off mode energy consumption of these products made after corresponding revisions to the vented home heating equipment test procedure must be based upon results generated under this test procedure, consistent with the requirements of 42 U.S.C. 6293(c)(2). For vented home heating equipment, the statute requires that after July 1, 2010, any adopted energy conservation standard shall incorporate standby mode and off mode energy consumption, and upon the compliance date for such standards, compliance with the applicable provisions of this test procedure will also be required.

1.0. Definitions

1.1 “Active mode” means the condition during the heating season in which the vented heater is connected to the power source, and either the burner or any electrical auxiliary is activated.

* * * * *

1.16 “IEC 62301” means the test standard published by the International Electrotechnical Commission, titled “Household electrical appliances—Measurement of standby power,” Publication 62301 second edition, February 2011. (incorporated by reference; see § 430.3)

* * * * *

1.22 “Off mode” means the condition during the non-heating season in which the vented heater is connected to the power source, and neither the burner nor any electrical auxiliary is activated.

* * * * *

1.25 “Seasonal off switch” means the control device, such as a lever or toggle, on the vented heater that affects a difference in off mode energy consumption as compared to standby mode consumption.

* * * * *

1.30 “Standby mode” means the condition during the heating season in which the vented heater is connected to the power source, and neither the burner nor any electrical auxiliary is activated.

* * * * *

3.0 Testing and Measurements.

* * * * *

3.7 Measurement of Electrical Standby Mode and Off Mode Power

3.7.1 Standby power measurements. With all electrical auxiliaries of the vented heater not activated, measure the standby power (PW,SB) in accordance with the procedures in IEC 62301 (incorporated by reference, see § 430.3), except that section 2.9, Room ambient temperature, and the voltage provision of section 2.3.5, Electrical supply, of this appendix shall apply in lieu of the IEC 62301 corresponding sections 4.2, Test room, and 4.3, Power supply. Clarifying further, the IEC 62301 sections 4.4, Power measuring instruments, and section 5, Measurements, shall apply in lieu of section 2.8, Energy flow instrumentation, of this appendix. Measure the wattage so that all possible standby mode wattage for the entire appliance is recorded, not just the standby mode wattage of a single auxiliary. The recorded standby power (PW,SB) shall be rounded to the second decimal place, and for loads greater than or equal to 10W, at least three significant figures shall be reported.

3.7.2 Off mode power measurement. If the unit is equipped with a seasonal off switch or there is an expected difference between off mode power and standby mode power, measure off mode power (PW,OFF) in accordance with the standby power procedures in IEC 62301 (incorporated by reference, see § 430.3), except that section 2.9, Room ambient temperature, and the voltage provision of section 2.3.5, Electrical supply, of this appendix shall apply in lieu of the IEC 62301 corresponding sections 4.2, Test room, and 4.3, Power supply. Clarifying further, the IEC 62301 sections 4.4, Power measuring instruments, and section 5, Measurements, shall apply in lieu of section 2.8, Energy flow instrumentation, of this appendix. Measure the wattage so that all possible off mode wattage for the entire appliance is recorded, not just the off mode wattage of a single auxiliary. If there is no expected difference in off mode power and standby mode power, let PW,OFF = PW,SB, in which case no separate measurement of off mode power is necessary. The recorded off mode power (PW,OFF) shall be rounded to the second decimal place, and for loads greater than or equal to 10W, at least three significant figures shall be reported.

4.0 Calculations

* * * * *

4.6.3 Average annual auxiliary electrical energy consumption for vented heaters. For vented heaters with single-stage controls or manual controls, the average annual auxiliary electrical consumption (EAE) is expressed in kilowatt-hours and defined as:

EAE = BOHSSPE + ESO

Where:

BOHSS = as defined in 4.6.1 of this appendix

PE = as defined in 3.1.3 of this appendix

ESO = as defined in 4.7 of this appendix

4.6.3.1 For vented heaters with two-stage or modulating controls, EAE is defined as:

EAE = (BOHR + BOHH)PE + ESO

Where:

BOHR = as defined in 4.6.1 of this appendix

BOHH = as defined in 4.6.1 of this appendix

PE = as defined in 3.1.3 of this appendix

ESO = as defined in 4.7 of this appendix

* * * * *

4.7 Average annual electric standby mode and off mode energy consumption.Calculate the annual electric standby mode and off mode energy consumption, ESO, defined as, in kilowatt-hours:

ESO = ((PW,SB * (4160—BOH)) + (PW,OFF * 4600)) * K

Where:

PW,SB = vented heater standby mode power, in watts, as measured in section 3.7

4160 = average heating season hours per year

PW,OFF = vented heater off mode power, in watts, as measured in section 3.7

4600 = average non-heating season hours per year

K = 0.001 kWh/Wh, conversion factor for watt-hours to kilowatt-hours.

BOH = burner operating hours as calculated in section 4.6.1 where for single-stage controls or manual controls vented heaters BOH = BOHSS and for vented heaters equipped with two-stage or modulating controls BOH = (BOHR + BOHH).

6. Appendix P to Subpart B of Part 430 is revised to read as follows:

Appendix P to Subpart B of Part 430-Uniform Test Method for Measuring the Energy Consumption of Pool Heaters

Note: The procedures and calculations that refer to standby mode and off mode energy consumption (i.e., sections 2.2, 2.3, 3.2, 4.2, 4.3, 5.3 equation (3), and 5.4 of this appendix P) need not be performed to determine compliance with energy conservation standards for pool heaters at this time. However, any representations related to standby mode and off mode energy consumption of these products made after corresponding revisions to the pool heaters test procedure must be based upon results generated under this test procedure, consistent with the requirements of 42 U.S.C. 6293(c)(2). For pool heaters, the statute requires that after July 1, 2010, any adopted energy conservation standard shall incorporate standby mode and off mode energy consumption, and upon the compliance date for such standards, compliance with the applicable provisions of this test procedure will also be required.

1. Definitions

1.1. Active mode means the condition during the pool heating season in which the pool heater is connected to the power source, and the main burner, electric resistance element, or heat pump is activated to heat pool water.

1.2 IEC 62301 means the test standard published by the International Electrotechnical Commission, titled “Household electrical appliances—Measurement of standby power,” Publication 62301, second edition, February 2011. (incorporated by reference; see § 430.3)

1.3 Off mode means the condition during the pool non-heating season in which the pool heater is connected to the power source, and neither the main burner, electric resistance elements, nor heat pump is activated.

1.4 Seasonal off switch means a switch present on the pool heater that effects a difference in off mode energy consumption as compared to standby mode energy consumption.

1.5 Standby mode means the condition during the pool heating season in which the pool heater is connected to the power source, and neither the main burner, electric resistance elements, nor heat pump is activated.

Test Method

2.1 Active mode. The test method for testing pool heaters in active mode is as specified in ANSI Z21.56 (incorporated by reference; see § 430.3).

2.2 Standby mode. The test method for testing the energy consumption of pool heaters in standby mode is as described in sections 3 through 5 below.

2.3 Off mode.

2.3.1 Pool heaters with a seasonal off switch.

For pool heaters with a seasonal off switch, no off-mode test is required.

2.3.2 Pool heaters without a seasonal off switch.

For pool heaters without a seasonal off switch, the test method for testing the energy consumption of the pool heater is as described in sections 3 through 5 below.

3. Test Conditions

3.1 Active mode. Establish the test conditions specified in section 2.10 of ANSI Z21.56 (incorporated by reference; see § 430.3).

3.2 Standby mode and off mode. Following the conclusion of the 30-minute active mode test described in section 3.1, reduce the thermostat setting to a low enough temperature to put the pool heater into standby mode. Reapply the energy sources and operate the pool heater in standby mode for 60 minutes.

4. Measurements

4.1 Active mode. Measure the quantities delineated in section 2.10 of ANSI Z21.56 (incorporated by reference; see § 430.3). The measurement of energy consumption for oil-fired pool heaters in Btu is to be carried out in appropriate units (e.g., gallons).

4.2 Standby mode. Record the average electric power consumption during the standby mode test, PW,SB, in W, in accordance with section 5 of IEC 62301 (incorporated by reference; see § 430.3) and the fossil fuel energy consumption during the standby test, Qp, in Btu. Ambient temperature and voltage specifications of ANSI Z21.56 (incorporated by reference; see § 430.3) shall apply to this standby mode testing. The recorded standby power (PW,SB) shall be rounded to the second decimal place, and for loads greater than or equal to 10W, at least three significant figures shall be reported.

4.3 Off mode.

4.3.1 Pool heaters with a seasonal off switch. For pool heaters with a seasonal off switch, the average electric power consumption during the off mode, PW,OFF = 0, and the fossil fuel energy consumed during the off mode, Qoff = 0.

4.3.2 Pool heaters without a seasonal off switch. Record the average electric power consumption during the standby/off mode test, PW,OFF (= PW,SB), in W, in accordance with section 5 of IEC 62301 (incorporated by reference; see § 430.3), and the fossil fuel energy consumption during the off mode test, Qoff (= Qp), in Btu. Ambient temperature and voltage specifications of ANSI Z21.56 (incorporated by reference; see § 430.3) shall apply to this off mode testing. The recorded off mode power (PW,OFF) shall be rounded to the second decimal place, and for loads greater than or equal to 10W, at least three significant figures shall be reported.

5. Calculations

5.1 Thermal efficiency. Calculate the thermal efficiency, Et (expressed as a percent), as specified in section 2.10 of ANSI Z21.56 (incorporated by reference; see § 430.3). The expression of fuel consumption for oil-fired pool heaters shall be in Btu.

5.2 Average annual fossil fuel energy for pool heaters. The average annual fuel energy for pool heaters, EF, is defined as:

EF = BOH QIN + (POH−BOH)QPR + (8760−POH) Qoff,R

Where:

BOH = average number of burner operating hours = 104 h

POH = average number of pool operating hours = 4464 h

QIN = rated fuel energy input as defined according to section 2.10.1 or section 2.10.2 of ANSI Z21.56 (incorporated by reference; see § 430.3), as appropriate.

QPR = average energy consumption rate of continuously operating pilot light, if employed, = (QP/1 h)

QP = energy consumption of continuously operating pilot light, if employed, as measured in section 4.2, in Btu

8760 = number of hours in one year

Qoff,R = average off mode fossil fuel energy consumption rate = Qoff/(1 h)

Qoff = off mode energy consumption as defined in section 4.3 of this appendix

5.3 Average annual auxiliary electrical energy consumption for pool heaters. The average annual auxiliary electrical energy consumption for pool heaters, EAE, is expressed in Btu and defined as:

(1) EAE = EAE,active + EAE,standby,off

(2) EAE,active = BOH * PE

(3) EAE,standby,off = (POH−BOH) PW,SB(Btu/h) + (8760−POH) PW,OFF(Btu/h)

Where:

EAE,active = auxiliary electrical consumption in the active mode

EAE,standby,off = auxiliary electrical consumption in the standby mode and off mode

PE = 2Ec, if heater is tested according to section 2.10.1 of ANSI Z21.56 (incorporated by reference; see § 430.3), in Btu/h = 3.412 PErated, if heater is tested according to section 2.10.2 of ANSI Z21.56, in Btu/h

Ec = electrical consumption of the heater (converted to equivalent unit of Btu), including the electrical energy to the recirculating pump if used, during the 30-minute thermal efficiency test, as defined in section 2.10.1 of ANSI Z21.56, in Btu per 30 min.

2 = conversion factor to convert unit from per 30 min. to per h.

PErated = nameplate rating of auxiliary electrical equipment of heater, in Watts

BOH = as defined in 5.2 of this appendix

POH = as defined in 5.2 of this appendix

PW,SB (Btu/h) = electrical energy consumption rate during standby mode expressed in Btu/h = 3.412 PW,SB, Btu/h

PW,SB = as defined in 4.2 of this appendix

PW,OFF (Btu/h) = electrical energy consumption rate during off mode expressed in Btu/h = 3.412 PW,OFF, Btu/h

PW,OFF = as defined in 4.3 of this appendix

5.4 Integrated thermal efficiency.

5.4.1 Calculate the seasonal useful output of the pool heater as:

EOUT = BOH[(Et/100)(QIN + PE)]

Where:

BOH = as defined in 5.2 of this appendix

Et = thermal efficiency as defined in 5.1 of this appendix

QIN = as defined in 5.2 of this appendix

PE = as defined in 5.3 of this appendix

100 = conversion factor, from percent to fraction

5.4.2 Calculate the annual input to the pool heater as:

EIN = EF + EAE

Where:

EF = as defined in 5.2 of this appendix

EAE = as defined in 5.3 of this appendix

5.4.3 Calculate the pool heater integrated thermal efficiency (TEI) (in percent).

TEI = 100(EOUT/EIN)

Where:

EOUT = as defined in 5.4.1 of this appendix

EIN = as defined in 5.4.2 of this appendix

100 = conversion factor, from fraction to percent

[FR Doc. 2011-23089 Filed 9-12-11; 8:45 am]

BILLING CODE 6450-01-P